DEPARTMENT OF HEALTH AND HUMAN SERVICES

Administration for Children and Families

Proposed Information Collection Activity; Comment Request

Proposed Projects

Title: Disaster Information Collection Plans.

OMB No.: NEW.

Description: This request is for approval of a plan for conducting more than one information collection that is very similar, voluntary, low-burden and uncontroversial. The Information collections under this generic clearance will be activated during a disaster. These forms will be used after a disaster to develop a technical assistance plan for affected ACF programs.

Presidential Policy Directive-8 (PPD-8), which was signed into law in 2011, provides federal guidance and planning procedures under established phases—protection, preparedness, response, recovery, and mitigation. The data collection addresses response, and recovery for ACF programs with a statutory preparedness planning requirement and other programs without that requirement.

ACF/Office of Human Services Emergency Preparedness and Response (OHSEPR) has a requirement under PPD-8, the National Response Framework, and the National Disaster Recovery Framework to report impacts of disasters to ACF-supported human services programs to the HHS Secretary's Operation Center (SOC). ACF/OHSEPR works in conjunction with the Assistant Secretary for Preparedness and Response (ASPR), and the Federal Emergency Management Agency (FEMA) to ensure that impacted ACF programs are returned to their normal or close to normal operations.

The primary purpose of the information collection pertains to ACF's initiative to provide real time updates during the response and recovery phases of a disaster; the information will be used to respond to inquiries about human services response and recovery efforts, specifically for individuals, children, and families that need support from ACF programs. Further, the information collection will be used to support ACF/OHSEPR's goal to quickly identify critical gaps, resources, needs, and services to support State, local and non-profit capacity for disaster case management and to augment and build capacity where none exists.

Respondents: Varies, depending on programmatic impact (could be state administrators, or grantees).

Annual Burden Estimates

The estimate is based on a single disaster per year. The estimate is for one state administrator to go through all the applicable questions with the Regional and Central Office staff, if applicable.

Instrument | Number of respondents | Number of responses per respondent | Burden hours per response | Total burden hours
Program Specific Disaster Information Collection | 50 | 15 | 0.5 | 25

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2015-18440 Filed 7-27-15; 8:45 am]

BILLING CODE 4184-01-P